DEPARTMENT OF VETERANS AFFAIRS

Advisory Committee on Homeless Veterans, Notice of Meeting

The Department of Veterans Affairs (VA) gives notice under the Federal Advisory Committee Act, 5 U.S.C. Ch. 10, that the Advisory Committee on Homeless Veterans (the Committee) will meet on August 13, 2025. The meeting session will take place virtually via Microsoft Teams conferencing platform—Eastern Standard Time (EST). The meeting session will begin and end as follows:

Date | Eastern standard time | Open session
August 13, 2025 | 9:00 a.m.-4:00 p.m. EST | Yes.

The meeting session is to the public.

The purpose of the Committee is to provide the Secretary of Veterans Affairs with an ongoing assessment of the effectiveness of the policies, organizational structures, and services of VA in assisting Veterans at risk of and experiencing homelessness. The Committee shall assemble, and review information related to the needs of homeless Veterans and provide advice on the most appropriate means of assisting this Veteran population.

On August 13, 2025, the Committee will convene in an open session and the agenda will include introductions of new members and briefings from VA, other Federal, state, and local agencies and the public regarding services for homeless Veterans.

Time will be allocated at the August 13, 2025, meeting for receiving oral presentations from the public 12:30 p.m. to 1:00 p.m. EST. The comment period may end sooner, if there are no comments presented or they are exhausted before the end time. By July 31, 2025, interested parties that would like to provide 3 minute oral presentations should provide written comments on issues affecting homeless Veterans to achv@va.gov for review by the Committee to Anthony Love, Designated Federal Officer, Veterans Health Administration Homeless Programs Office (11HPO), U.S. Department of Veterans Affairs, 810 Vermont Avenue NW (11HPO), Washington, DC 20420.

Additionally, members of the public who wish to attend the August 13, 2025, meeting virtually should notify Mr. Love at achv@va.gov no later than July 31, 2025, providing their name, professional affiliation, email address, and phone number. Attendees who require reasonable accommodations should also state so in their requests. Additionally, all attendees that are not Advisory Committee members or have not been recognized to speak by the Chair will be muted.

The meeting link and call-in numbers are noted below:

Microsoft Teams Virtual Link: https://teams.microsoft.com/l/meetup-join/19%3ameeting_OWU1MWMwMTItYTA5ZS00MGRlLTg5ZTYtNzM0YzA1YWI5OWQ1%40thread.v2/0?context=%7b%22Tid%22%3a%22e95f1b23-abaf-45ee-821d-b7ab251ab3bf%22%2c%22Oid%22%3a%22c4b32df5-4b31-4d2a-9d3d-e9f226fc0a82%22%7d.

Meeting ID: 243 021 231 461.

Passcode: W4Wz2Fp9.

Phone: 1-872-701-0185/Passcode: 139 940 604#.

Dated: June 23, 2025.
Jelessa M. Burney,
Federal Advisory Committee Management Officer.

[FR Doc. 2025-11670 Filed 6-24-25; 8:45 am]

BILLING CODE 8320-01-P